DEPARTMENT OF HEALTH AND HUMAN SERVICES

Indian Health Service

Request for Public Comment: 30-Day Information Collection: Indian Self-Determination and Education Assistance Act Contracts

AGENCY: Indian Health Service, HHS.

ACTION: Notice and request for comments. Request for extension of approval.

SUMMARY: In compliance with the Paperwork Reduction Act of 1995 (PRA), the Indian Health Service (IHS) invites the general public to comment on the information collection titled, “Indian Self-Determination and Education Assistance Act Contracts,” Office of Management and Budget (OMB) Control Number 0917-0037. IHS is requesting OMB to approve an extension for this collection, which expires on February 29, 2020. This proposed information collection project was previously published in the Federal Register (84 FR 70982) on December 26, 2019, and allowed 60 days for public comment, as required by the PRA. The IHS received no comments regarding this collection. The purpose of this notice is to allow 30 days for public comment to be submitted directly to OMB.

DATES:

Comment Due Date: March 26, 2020. Your comments regarding this information collection are best assured of having full effect if received within 30 days of the date of this publication.

Direct Your Comments to OMB: Send your comments and suggestions regarding the proposed information collection contained in this notice, especially regarding the estimated public burden and associated response time to: Office of Management and Budget, Office of Regulatory Affairs, New Executive Office Building, Room 10235, Washington, DC 20503, Attention: Desk Officer for IHS.

SUPPLEMENTARY INFORMATION: This previously approved information collection project was last published in the Federal Register (84 FR 70982) on December 26, 2019. No public comment was received in response to the notice. The purpose of this notice is to allow 30 days for public comment to be submitted directly to OMB. A copy of the supporting statement is available at www.regulations.gov (see Docket ID IHS-2016-0003).

Information Collection: Title: “Indian Self-Determination and Education Assistance Act Contracts, 25 CFR part 900.”

OMB Control Number: 0917-0037.

Title: Indian Self-Determination and Education Assistance Act Contracts.

Brief Description of Collection: An Indian Tribe or Tribal Organization is required to submit certain information when it proposes to contract with the IHS under the ISDEAA. Each response may vary in its length. In addition, each Subpart of 25 CFR part 900 concerns different parts of the contracting process. For example, Subpart C relates to provisions of the contents for the initial contract proposal. The respondents do not incur the burden associated with Subpart C when contracts are renewed. Subpart F describes minimum standards for management systems used by Indian Tribes or Tribal Organizations under these contracts. Subpart G addresses the negotiability of all reporting and data requirements in the contracts. Responses are required to obtain or retain a benefit.

Type of Review: Extension of currently approved collection.

Respondents: Federally recognized Indian Tribes and Tribal Organizations.

Number of Respondents: 275 Title I contractors.

Estimated Number of Responses: On average, IHS receives 10 proposals for new or expanded Title I agreements each fiscal year, plus there are 265 existing Title I contracts and associated annual funding agreements, which must be negotiated each year = 275 responses.

Estimated Time per Response: Average of 70 hours for the new/expanded; average of 35 hours for the existing.

Frequency of Response: Each time programs, functions, services or activities are contracted from the IHS under the ISDEAA.

Estimated Total Annual Hour Burden: 700 [70 × 10] for new/expanded + 9,275 [35 × 265] for existing = 9,975.

Requests for Comments: Your written comments and/or suggestions are invited on one or more of the following points: (a) The necessity of this information collection for the proper performance of the functions of the agency, including whether the information will have practical utility; (b) the accuracy of the agency's estimate of the burden (hours and cost) of the collection of information, including the validity of the methodology and assumptions used; (c) ways to enhance the quality, utility, and clarity of the information to be collected; and (d) ways to minimize the burden of the collection of the information on the respondents.

Michael D. Weahkee,
Assistant Surgeon General, U.S. Public Health Service, Principal Deputy Director, Indian Health Service.

[FR Doc. 2020-03660 Filed 2-24-20; 8:45 am]

BILLING CODE 4165-16-P